DEPARTMENT OF COMMERCE

National Oceanic and Atmospheric Administration

RIN 0648-XF314

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) will hold two training workshops for its for-hire advisory panel members and other for-hire operators for purposes of providing instruction on electronic reporting of for-hire Vessel Trip Reports (VTRs).

DATES: The meetings will be held Tuesday, April 25, 2017 and Thursday April 27, 2017, from 9 a.m. to 5 p.m.

ADDRESSES: The workshops will be held: Tuesday, April 25, at the Hilton Mystic Hotel 20 Coogan Blvd., Mystic CT 06355; phone: (860) 572-0731. Thursday, April 27, at the Doubletree by Hilton Baltimore-BWI Airport, 890 Elkridge Landing Rd., Linthicum Heights, MD 21090; phone: (410) 859-8400. Participation is limited to 30 individuals in each workshop due to space limitations. To ensure attendance, please register at http://www.mafmc.org/forms/evtr-workshop-registration or email the workshop coordinator at aloftus@andrewloftus.com.

Council address: Mid-Atlantic Fishery Management Council, 800 N. State St., Suite 201, Dover, DE 19901; telephone: (302) 674-2331.

FOR FURTHER INFORMATION CONTACT: Andrew Loftus, eVTR Outreach Workshop Coordinator; telephone: (410) 295-5997; email: aloftus@andrewloftus.com or Christopher M. Moore, Ph.D. Executive Director, Mid-Atlantic Fishery Management Council; telephone: (302) 526-5255. The Council's Web site, www.mafmc.org also has details on the proposed agenda and briefing materials.

SUPPLEMENTARY INFORMATION: The Council has submitted a Regulatory Omnibus Framework Adjustment to NMFS requiring that for-hire vessels submit VTRs electronically starting 6 months following publication of the final rule in the Federal Register for all Council-managed fisheries that require for-hire VTR reporting. This action would change the method of transmitting VTRs—the required data elements would not change. VTRs would be required to be completed before arriving at the dock, and electronic reports would have to be submitted within 48 hours after docking. These workshops will provide training for the Council's for-hire advisory panel members and the public in preparation for this action.

Special Accommodations

These meetings are physically accessible to people with disabilities. Requests for sign language interpretation or other auxiliary aid should be directed to M. Jan Saunders, (302) 526-5251, at least 5 days prior to the meeting date.

Dated: March 28, 2017.
Tracey L. Thompson,
Acting Deputy Director, Office of Sustainable Fisheries, National Marine Fisheries Service.

[FR Doc. 2017-06375 Filed 3-30-17; 8:45 am]

BILLING CODE 3510-22-P